FEDERAL ACCOUNTING STANDARDS ADVISORY BOARD

Notice of Issuance of Technical Release 23, Omnibus Technical Release Amendments 2024: Conforming Amendments to Technical Releases 10, 16, 20, and 21

AGENCY: Federal Accounting Standards Advisory Board.

ACTION: Notice.

SUMMARY: Notice is hereby given that the Federal Accounting Standards Advisory Board (FASAB) has issued Technical Release 23 titled Omnibus Technical Release Amendments: Conforming Amendments to Technical Releases 10, 16, 20, 21.

ADDRESSES: Technical Release 23 is available on the FASAB website at https://fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: July 22, 2024.
Monica R. Valentine,
Executive Director.

[FR Doc. 2024-16389 Filed 7-24-24; 8:45 am]

BILLING CODE 1610-02-P